INTERNATIONAL TRADE COMMISSION

[Investigation No. 337-TA-1008]

Certain Carbon Spine Board, Cervical Collar, CPR Masks and Various Medical Training Manikin Devices, and Trademarks, Copyrights of Product Catalogues, Product Inserts and Components Thereof; Institution of Investigation

AGENCY: U.S. International Trade Commission.

ACTION: Notice.

SUMMARY: Notice is hereby given that a complaint was filed with the U.S. International Trade Commission on March 21, 2016, under section 337 of the Tariff Act of 1930, as amended, 19 U.S.C. 1337, on behalf of Laerdal Medical Corp. of Wappingers Falls, New York and Laerdal Medical AS of Stavanger, Norway. An amended complaint was filed on May 18, 2016. A supplement to the amended complaint was filed on June 7, 2016. The complaint, as amended and supplemented, alleges violations of section 337 based upon the importation into the United States, the sale for importation, and the sale within the United States after importation of certain carbon spine board, cervical collar, CPR masks and various medical training manikin devices, and trademarks, copyrights of product catalogues, product inserts and components thereof by reason of infringement of certain claims of U.S. Patent No. 6,090,058 (“the '058 patent”); certain claims of U.S. Patent No. 6,170,486 (“the '486 patent”); U.S. Copyright Registration No. VA 1-879-023 (“the '023 copyright”); U.S. Copyright Registration No. VA 1-879-026 (“the '026 copyright”), U.S. Trademark Registration No. 3,735,147 (“the '147 trademark”); and U.S. Trademark Registration No. 3,476,656 (“the '656 trademark”), and that an industry in the United States exists as required by section (a)(2) of section 337. The amended complaint further alleges violations of section 337 based upon the importation into the United States, or in the sale of certain carbon spine board, cervical collar, CPR masks and various medical training manikin devices, and trademarks, copyrights of product catalogues, product inserts and components thereof by reason of common law trademark infringement and trade dress misappropriation and infringement, the threat or effect of which is to destroy or substantially injure an industry in the United States.

The complainants request that the Commission institute an investigation and, after the investigation, issue a general exclusion order, or in the alternative, a limited exclusion order and cease and desist orders.

ADDRESSES: The amended complaint, except for any confidential information contained therein, is available for inspection during official business hours (8:45 a.m. to 5:15 p.m.) in the Office of the Secretary, U.S. International Trade Commission, 500 E Street SW., Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at http://www.usitc.gov. The public record for this investigation may be viewed on the Commission's electronic docket (EDIS) at http://edis.usitc.gov.

FOR FURTHER INFORMATION CONTACT: The Office of Unfair Import Investigations, U.S. International Trade Commission, telephone (202) 205-2560.

Authority: The authority for institution of this investigation is contained in section 337 of the Tariff Act of 1930, as amended, and in section 210.10 of the Commission's Rules of Practice and Procedure, 19 CFR 210.10 (2016).

Scope of Investigation: Having considered the complaint, as amended, the U.S. International Trade Commission, on June 20, 2016, ordered that—

(1) Pursuant to subsection (b) of section 337 of the Tariff Act of 1930, as amended, an investigation be instituted to determine:

(a) Whether there is a violation of subsection (a)(1)(A) of section 337 in the importation into the United States, or in the sale of certain carbon spine board, cervical collar, CPR masks and various medical training manikin devices, and trademarks, copyrights of product catalogues, product inserts and components thereof by reason of trade dress misappropriation and infringement, the threat or effect of which is to destroy or substantially injure an industry in the United States;

(b) whether there is a violation of subsection (a)(1)(B) of section 337 in the importation into the United States, the sale for importation, or the sale within the United States after importation of certain carbon spine board, cervical collar, CPR masks and various medical training manikin devices, and trademarks, copyrights of product catalogues, product inserts and components thereof by reason of infringement of one or more of claim 1 of the '058 patent; the '023 copyright; and the '026 copyright, and whether an industry in the United States exists as required by subsection (a)(2) of section 337;

(c) whether there is a violation of subsection (a)(1)(C) of section 337 in the importation into the United States, the sale for importation, or the sale within the United States after importation of certain carbon spine board, cervical collar, CPR masks and various medical training manikin devices, and trademarks, copyrights of product catalogues, product inserts and components thereof by reason of infringement of the '656 trademark, and whether an industry in the United States exists as required by subsection (a)(2) of section 337;

(2) For the purpose of the investigation so instituted, the following are hereby named as parties upon which this notice of investigation shall be served:

(a) The complainants are:

Laerdal Medical Corp., 167 Myers Corners Road, Wappingers Falls, NY 12590

Laerdal Medical AS, 30 Tanke Svilandsgate, Stavanger, Norway N-4002

(b) The respondents are the following entities alleged to be in violation of section 337, and are the parties upon which the amended complaint is to be served:

Shanghai Evenk International Trading Co., Ltd., Aijia International Building, #288 Wuhua Road, Bldg. No. 1, 5th Floor, Shanghai, China, 200086

Shanghai Honglian Medical Instrument, Development Co., Ltd., Aijia International Building, #288 Wuhua Road, Bldg. No. 1, 5th Floor, Shanghai, China, 200086

Shangahi Jolly Medical Education Co., Ltd., # 8 Jinting Road, Pudong New Area, Shanghai, China 201323

Zhangjiagang Xiehe Medical Apparatus & Instruments Co., Ltd., FuGang Building, #6B RenMin Street, Zhangjiagang City, Jiangsu, China 215600

Zhangjiagang New Fellow Med Co., Ltd., Sanxing Wukesong Road, Jinfeng Town, Zhangjiagang City, Jiangsu Province, China 215624

Jiangsu Yongxin Medical Equipment Co., Ltd., 204 New State Road, Leyu Town, Zhangjiagang City, Jiangsu Province, China 2156000

Jiangsu Yongxin Medical-Use Facilities Making, Co., Ltd., 204 New State Road, Leyu Town, Zhangjiagang City, Jiangsu Provice, China 2156000

Jiangyin Everise Medical Devices Co., Ltd., No. 1001 Chengyang Road, Jiangyin City, Jiangsu, China 214423

Medsource International Co., Ltd. and Medsource Factory, Inc., No. 1703 Building 11#, Lane 225, Jinxiang Road, PuDong, China 201206

Basic Medical Supply, LLC, 19902 Flax Flower Drive, Richmond, TX 77407

(c) The Office of Unfair Import Investigations, U.S. International Trade Commission, 500 E Street SW., Suite 401, Washington, DC 20436; and

(3) For the investigation so instituted, the Chief Administrative Law Judge, U.S. International Trade Commission, shall designate the presiding Administrative Law Judge.

Responses to the amended complaint and the notice of investigation must be submitted by the named respondents in accordance with section 210.13 of the Commission's Rules of Practice and Procedure, 19 CFR 210.13. Pursuant to 19 CFR 201.16(e) and 210.13(a), such responses will be considered by the Commission if received not later than 20 days after the date of service by the Commission of the amended complaint and the notice of investigation. Extensions of time for submitting responses to the amended complaint and the notice of investigation will not be granted unless good cause therefor is shown.

Failure of a respondent to file a timely response to each allegation in the amended complaint and in this notice may be deemed to constitute a waiver of the right to appear and contest the allegations of the amended complaint and this notice, and to authorize the administrative law judge and the Commission, without further notice to the respondent, to find the facts to be as alleged in the amended complaint and this notice and to enter an initial determination and a final determination containing such findings, and may result in the issuance of an exclusion order or a cease and desist order or both directed against the respondent.

By order of the Commission.
Issued: June 20, 2016.
Lisa R. Barton,
Secretary to the Commission.

[FR Doc. 2016-14909 Filed 6-23-16; 8:45 am]

BILLING CODE 7020-02-P